DEPARTMENT OF COMMERCE

International Trade Administration

[A-570-941]

Certain Kitchen Appliance Shelving and Racks From the People's Republic of China: Extension of Time Limits for the Preliminary Results of the First Antidumping Duty Administrative Review

AGENCY: Import Administration, International Trade Administration, Department of Commerce.

DATES: Effective Date: April 14, 2011.

FOR FURTHER INFORMATION CONTACT: Katie Marksberry or Kabir Archuletta, AD/CVD Operations, Office 9, Import Administration, International Trade Administration, U.S. Department of Commerce, 14th Street and Constitution Avenue, NW., Washington DC 20230; telephone: (202) 482-7906 or (202) 482-2593, respectively.

Background

On October 28, 2010, the Department of Commerce (“Department”) initiated an administrative review of certain kitchen appliance shelving and racks from the People's Republic of China (“PRC”) for the period March 5, 2009, through August 31, 2010. See Initiation of Antidumping and Countervailing Duty Administrative Reviews, 75 FR 66349 (October 28, 2010) (“First Initiation”).¹

¹ Nashville Wire Products Inc. and SSW Holding Company, Inc. (collectively, “Petitioners”) initially requested that the Department initiate an administrative review of ten companies; however, we required additional information concerning why, pursuant to 19 CFR 351.213(b)(1), Petitioners desired a review of five of these companies. See First Initiation, 75 FR at 66352. Accordingly, the Department postponed initiation of this administrative review with respect to five companies requested by Petitioners. See id. and Initiation of Antidumping and Countervailing Duty Administrative Reviews; Correction, 75 FR 69054 (November 10, 2010). After reviewing additional information placed on the record of this administrative review by Petitioners, we determined that, for three of the five postponed companies, Petitioners did not provide any reason, other than alleged transshipment, for initiation; therefore, we declined to initiate a review for Asia Pacific CIS (Thailand) Co., Ltd., Taiwan Rail Company, and King Shan Wire Co., Ltd. See Initiation of Antidumping and Countervailing Duty Administrative Reviews, 75 FR 73036, 73039 (November 29, 2010). However, we did, at this point, also determine that it was appropriate to initiate this review with respect to two additional companies originally requested by Petitioners: Asia Pacific CIS (Wuxi) Co., Ltd.; and Hengtong Hardware Manufacturing (Huizhou) Co., Ltd. See id.

On January 20, 2011, the Department selected two mandatory respondents in the above referenced administrative review pursuant to section 777A(c)(2)(B) of the Tariff Act of 1930, as amended (“the Act”): Guangdong Wireking Housewares & Hardware Co., Ltd. (“Wireking”) and Jiangsu Weixi Group Co. (“Weixi”).²

² See Memorandum to James C. Doyle, Office Director, Office 9, through Catherine Bertrand, Program Manager, Office 9, from Kabir Archuletta, International Trade Analyst, Office 9, “Selection of Respondents for the Antidumping Review of Certain Kitchen Appliance Shelving and Racks from the People's Republic of China,” dated January 20, 2011.

The Department sent its antidumping duty questionnaire to Weixi and Wireking on January 20, 2011.³ In its questionnaire, the Department requested that the two firms provide a response to Section A of the Department's questionnaire by February 10, 2011, and Sections C and D of the questionnaire by February 28, 2011.

³ See Letters to Weixi and Wireking from Catherine Bertrand, Program Manager, AD/CVD Operations, Office 9, regarding “Kitchen Appliance Shelving and Racks from the People's Republic of China,” dated January 20, 2011.

On February 2, 2011, eight days prior to the Department's February 10, 2011, deadline for Section A questionnaire responses, the Department received a request on behalf of New King Shan (Zhuhai) Co., Ltd. (“NKS”), a mandatory respondent in the original investigation and a separate rate company in this review, to be selected as a replacement mandatory respondent in the event of a non-responsive mandatory respondent and for a 28-day extension to submit questionnaire responses.⁴ On February 4, 2011, Wireking filed a request for an extension of the deadline to submit its Section A response, which the Department extended to February 22, 2011, for Wireking and any potential voluntary respondents.⁵ The Department did not receive an extension request from Weixi and did not receive its Section A response by the appointed deadline.

⁴ See Letter from NKS regarding “Request for Extension of Time to File Voluntary Response and Request for Clarification of Reporting of Sales,” dated February 2, 2011.

⁵ See Memorandum to the File from Kabir Archuletta, International Trade Analyst, Office 9, regarding “Guangdong Wireking Housewares & Hardware Co., Ltd. Section A Questionnaire Extension Request,” dated February 10, 2011.

On February 23, 2011, the Department received an unsolicited Section A questionnaire response from NKS.⁶ On March 1, 2011, because Weixi did not cooperate with our request for information, the Department selected NKS, the third largest exporter by volume, as a replacement mandatory respondent.⁷ We also determined that it was appropriate to use the Section A response already submitted by NKS as the basis for that company's response as a mandatory respondent.⁸ On March 1, 2011, the Department sent its antidumping questionnaire to NKS and assigned a deadline of March 22, 2011, for its Sections C and D responses.⁹ The preliminary results of this review are currently due on June 2, 2011.

⁶ See “Voluntary Response to Section A by New King Shan (Zhuhai) Co., Ltd.,” dated February 23, 2011.

⁷ See Memorandum to James C. Doyle, Office Director, Office 9, through Catherine Bertrand, Program Manager, Office 9, from Kabir Archuletta, International Trade Analyst, Office 9, “Antidumping Review of Certain Kitchen Appliance Shelving and Racks from the People's Republic of China: Selection of an Additional Mandatory Respondent,” dated March 1, 2011.

⁸ See id.

⁹ See Letter to NKS from Catherine Bertrand, Program Manager, Office 9, “Kitchen Appliance Shelving and Racks from the People's Republic of China,” dated March 1, 2011.

Statutory Time Limits

Section 751(a)(3)(A) of the Act requires the Department to issue the preliminary results of an administrative review within 245 days after the last day of the anniversary month of an order for which a review is requested. Consistent with section 751(a)(3)(A) of the Act, the Department may extend the 245-day period to 365 days if it is not practicable to complete the review within a 245-day period.

Extension of Time Limit of Preliminary Results

The preliminary results are currently due on June 2, 2011. The non-responsiveness of one of the initial mandatory respondents, Weixi, and the selection of an additional mandatory respondent, NKS, restricted the time that the Department has available to gather and analyze additional information related to the sales process, affiliations, establishing the proper date of sale, surrogate values for all factors of production, and the methodology used to report factors of production. As the Department has yet to receive all responses to its supplemental questionnaires, we require more time to analyze the responses and issue any additional supplemental questionnaires, as needed. Therefore, we find that it is not practicable to complete these preliminary results within the current 245 day deadline.

Therefore, in accordance with section 751(a)(3)(A) of the Act, the Department is extending the time limit for issuing the preliminary results by 120 days until September 30, 2011. The final results continue to be due 120 days after the publication of the preliminary results.

This notice is published pursuant to section 777(i)(1) of the Act and 19 CFR 351.213(h)(2).

Dated: April 7, 2011.
Christian Marsh,
Deputy Assistant Secretary for Antidumping and Countervailing Duty Operations.

[FR Doc. 2011-9114 Filed 4-13-11; 8:45 am]

BILLING CODE 3510-DS-P